NUCLEAR REGULATORY COMMISSION

[NRC-2011-0006]

Sunshine Federal Register Notice

AGENCY HOLDING THE MEETINGS: Nuclear Regulatory Commission.

DATES: Weeks of January 10, 17, 24, 31, February 7, 14, 2011.

PLACE: Commissioners' Conference Room, 11555 Rockville Pike, Rockville, Maryland.

STATUS: Public and Closed.

Week of January 10, 2011

Tuesday, January 11, 2011

9:30 a.m. Discussion of Management Issues (Closed—Ex. 2).

Week of January 17, 2011—Tentative

There are no meetings scheduled for the week of January 17, 2011.

Week of January 24, 2011—Tentative

Monday, January 24, 2011

1 p.m. Briefing on Safety Culture Policy Statement (Public Meeting) (Contact: Diane Sieracki, 301-415-3297).

This meeting will be webcast live at the Web address— http://www.nrc.gov.

Week of January 31, 2011—Tentative

Tuesday, February 1, 2011

9 a.m. Briefing on Digital Instrumentation and Controls (Public Meeting) (Contact: Steven Arndt, 301-415-6502).

This meeting will be webcast live at the Web address— http://www.nrc.gov.

Week of February 7, 2011—Tentative

Tuesday, February 8, 2011

9 a.m. Briefing on Implementation of Part 26 (Public Meeting) (Contact: Shana Helton, 301-415-7198).

This meeting will be webcast live at the Web address— http://www.nrc.gov.

Week of February 14, 2011—Tentative

There are no meetings scheduled for the week of February 14, 2011.

*The schedule for Commission meetings is subject to change on short notice. To verify the status of meetings, call (recording)—(301) 415-1292. Contact person for more information: Rochelle Bavol, (301) 415-1651.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify Angela Bolduc, Chief, Employee/Labor Relations and Work Life Branch, at 301-492-2230, TDD: 301-415-2100, or by e-mail at angela.bolduc@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: January 6, 2011.
Rochelle C. Bavol,
Policy Coordinator, Office of the Secretary.

[FR Doc. 2011-490 Filed 1-7-11; 4:15 pm]

BILLING CODE 7590-01-P